ENVIRONMENTAL PROTECTION AGENCY

[FRL-9944-40-OW]

Notice of a Public Meeting and Webinar: Managing Cyanotoxins in Drinking Water

AGENCY: Environmental Protection Agency (EPA).

ACTION: Notice of a public meeting.

SUMMARY: The U.S. Environmental Protection Agency (EPA) announces an opportunity for public input on the EPA's tools and information related to drinking water cyanotoxin management. The EPA is holding a public meeting for interested parties to provide input either in person or online via a webinar on lessons learned after the release of the June 2015 Recommendations for Public Water Systems to Manage Cyanotoxins in Drinking Water. The agency plans to use this information to inform development of additional tools to support states and/or utilities. The EPA seeks to engage with stakeholders on information the agency can provide to support states and public water systems in addressing cyanotoxin public health concerns in drinking water.

DATES: The public meeting will be held on April 29, 2016, from 9:15 a.m. to 12:30 p.m., Central Standard Time. Registration and check-in begins at 8:45 a.m. Persons wishing to attend the meeting in person or online via webinar must register by April 28, 2016, as described in the SUPPLEMENTARY INFORMATION section.

ADDRESSES: The public meeting will be held at 77 West Jackson Blvd., Chicago, Illinois, Lake Michigan conference room on the 12th floor. All attendees must show government-issued photo identification (e.g., a driver's license) when signing in. Please arrive at least 15 minutes early to allow time to clear security. This meeting will also be simultaneously broadcast as a webinar, available on the Internet.

FOR FURTHER INFORMATION CONTACT: Members of the public who wish to receive further information about the public meeting or have questions about this notice should contact Hannah Holsinger at (202) 564-0403 or holsinger.hannah@epa.gov.

SUPPLEMENTARY INFORMATION:

I. General Information

a. How may I participate in this meeting/webinar? Persons wishing to attend the meeting in person or online via the webinar must register in advance no later than 5:00 p.m., Eastern Daylight Savings Time, on April 28, 2016. To register, go online to: https://www.eventbrite.com/e/us-epa-public-meeting-managing-cyanotoxins-in-drinking-water-tickets-22748127261?utm_term=eventurl_text. Teleconferencing will be available for individuals participating via the webinar. The number of seats and webinar connections available for the meeting is limited and will be available on a first-come, first-served basis. Early registration is encouraged to ensure proper accommodations. The EPA will do its best to include all those interested in either meeting in person or via the webinar.

b. How can I get a copy of the meeting/webinar materials? Prior to the public meeting, a link to the meeting materials will be sent by email to the registered attendees; copies will also be available for attendees at the meeting. For persons unable to attend the meeting, please contact Katie Foreman at foreman.katherine@epa.gov to request meeting materials.

c. Special Accommodations: Individuals with disabilities who wish to attend the meeting in person can request special accommodations by contacting Hannah Holsinger at holsinger.hannah@epa.gov no later than April 22, 2016.

II. Background

Cyanobacteria are naturally occurring organisms similar to algae. These organisms can occur in fresh water and may rapidly multiply causing “blooms” under favorable conditions. Conditions that enhance bloom formation and persistence include light intensity and duration, nutrient availability (such as nitrogen and phosphorus), water temperature, pH and water column stability. Some blooms produce cyanotoxins such as microcystin, cylindrospermopsin and anatoxin-a, which can be a health concern. For additional background information on cyanotoxins in drinking water, please go to: http://www2.epa.gov/sites/production/files/2014-08/documents/cyanobacteria_factsheet.pdf.

The EPA released health advisories in June 2015 for two cyanotoxins: Microcystin and cylindrospermopsin. In June 2015, the EPA also released recommendations for public water systems on managing risks from cyanotoxins in drinking water. For additional background information on the health advisories and recommendations, please go to: http://www.epa.gov/nutrient-policy-data/guidelines-and-recommendations. The EPA's goal for this meeting is to obtain information on state, utility and public experiences in managing risks from cyanotoxins in drinking water. The EPA is seeking to get input on lessons learned after the release of the June 2015 recommendations document, Recommendations for Public Water Systems to Manage Cyanotoxins in Drinking Water. The EPA plans to use this information to develop additional tools or make modifications to the current recommendations document.

Dated: March 24, 2016.
Rebecca Clark,
Acting Director, Office of Ground Water and Drinking Water.

[FR Doc. 2016-07173 Filed 3-29-16; 8:45 am]

BILLING CODE 6560-50-P